CORPORATION FOR NATIONAL AND COMMUNITY SERVICE

Renewal of a Currently Approved Information Collection; Submission for OMB Review; Comment Request

AGENCY: Corporation for National and Community Service.

ACTION: Notice.

The Corporation for National and Community Service (hereinafter the “Corporation”) has submitted the following public information collection request (ICR) to the Office of Management and Budget (OMB) for review and approval in accordance with the Paperwork Reduction Act of 1995 (Pub. L. 104-13, (44 U.S.C. Chapter 35). Copies of these individual ICRs, with applicable supporting documentation, may be obtained by calling the Corporation for National and Community Service, Mr. Noel McCaman, Director, AmeriCorps Recruitment Office, (202) 606-5000, extension 443. Individuals who use a telecommunications device for the deaf (TTY-TDD) may call (202) 565-2799 between 8:30 a.m. and 5:00 p.m. Eastern time, Monday through Friday.

Comments should be sent to the Office of Information and Regulatory Affairs, Attn: Ms. Brenda Aguilar, OMB Desk Officer for the Corporation for National and Community Service, Office of Management and Budget, Room 10235, Washington, D.C. 20503, (202) 395-6929, within 30 days from the date of this publication in the Federal Register.

The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information to those who are to respond, including through the use of appropriate automated, electronic, mechanical, or other technological collection techniques or other forms of information technology, e.g. permitting electronic submissions of responses.

Agency: Corporation for National and Community Service.

Type of Review: Revision of a currently approved collection.

Title: AmeriCorps National Referral Card.

OMB Number: 3045-0004.

Agency Number: None.

Frequency: One response per individual (optional collection).

Affected Public: Individuals and households.

Number of Respondents: 100,000. (50,000 through the Corporation's 1-800 number, and 50,000 through the Corporation's website).

Estimated Time Per Respondent: 3 minutes.

Total Burden Hours: 5,000 hours.

Total Annualized capital/startup costs: None.

Total annual costs (operating/maintenance): $42,900—1-800 number costs and $0.00 for the website).

Description: The AmeriCorps National Referral Card is submitted by potential AmeriCorps members to the Corporation for input into a national recruitment referral database and the information provided is distributed to approved AmeriCorps programs. The programs then contact individuals who have completed the form and ask them to formally apply for AmeriCorps member positions.

The Corporation seeks to revise the current AmeriCorps National Referral Card in order to determine:

(1) Citizenship or if applicant is a lawful permanent resident alien of the United States (a statutory requirement for participation in AmeriCorps);

(2) Knowledge of foreign languages. (The current card asks only about Spanish language skills);

(3) If the individual is interested in serving in a summer program; and

(4) The geographic area(s) in which the individual would prefer to serve.

Dated: August 23, 2000.
Noel V. McCaman,
Director of AmeriCorps Recruitment, Corporation for National and Community Service.

[FR Doc. 00-21983 Filed 8-28-00; 8:45 am]

BILLING CODE 6050-28-U